DEPARTMENT OF HEALTH AND HUMAN SERVICES

Administration for Community Living

Agency Information Collection Activities; Proposed Collection; Comment Request; Development Disabilities State Plan Information Collection; OMB #0985-0029

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Extension without Change and solicits comments on the information collection requirements related to Development Disabilities State Plan.

DATES: Comments on the collection of information must be submitted electronically by 11:59 p.m. (EST) or postmarked by January 13, 2020.

ADDRESSES: Submit electronic comments on the collection of information to Sara Newell-Perez. Submit written comments on the collection of information to Administration for Community Living, Washington, DC 20201, Attention: Sara Newell-Perez.

FOR FURTHER INFORMATION CONTACT: Sara Newell-Perez, Administration for Community Living, Washington, DC 20201, 202-795-7413 sara.newell-perez@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The State Councils on Developmental Disabilities (Councils) are authorized in Subtitle B, of the Developmental Disabilities Assistance and Bill of Rights Act of 2000 (DD Act), as amended, [42 U.S.C. 15001 et seq.] (The DD Act). They are required to submit a five-year State plan. Section 124(a) [42 U.S.C. 15024(a)], states any State desiring to receive assistance under this subtitle shall submit to the Secretary, and obtain approval of, a 5-year strategic State plan under this section. The requirement for a State plan is also further emphasized in the regulations in 45 CFR part 1326.30: (a) In order to receive Federal financial assistance under this subpart, each State Developmental Disabilities Council must prepare and submit to the Secretary, and have in effect, a State Plan which meets the requirements of sections 122 and 124 of the Act (42 U.S.C. 6022 and 6024) and these regulations.

Additionally, data is collected in the State Plan and submitted to Administration on Intellectual and Developmental Disabilities (AIDD) for compliance with the GPRA Modernization Act of 2010 (GPRAMA). In the State Plans, the Councils provide to AIDD future year targets for outcome performance measures. These targets are reported to Congress under GPRAMA.

As required by the statute, the Council is responsible for the development and submission of the State plan, and is then responsible for implementation of the activities described in the plan. Further, the Council updates the Plan annually during the five years. The State plan provides information on individuals with developmental disabilities in the State, and a description of the services available to them and their families. The plan further sets forth the goals and specific objectives to be achieved by the State in pursuing systems change and capacity building in order to more effectively meet the service needs of this population. It describes State priorities, strategies, and actions, and the allocation of funds to meet these goals and objectives.

The State Plan is used in three ways. First, it is used by the individual Council as a planning document to guide it's planning and execution processes. Secondly, it provides a mechanism in the State whereby individual citizens, as well as the State government, are made aware of the goals and objectives of the Council and have an opportunity to provide comments on them during its development. Finally, the State plan provides to the Department a stewardship tool; the staff of the Department provides some technical assistance to Councils and monitor compliance with Subtitle B of the DD Act, as an adjunct to on-site monitoring. The stewardship role of the State plan is useful both for providing technical assistance during the planning process, during the execution process, and also during program site visits.

The proposed data collection tools may be found on the ACL website for review at https://www.acl.gov/about-acl/public-input.

Estimated Program Burden

ACL estimates the burden associated with this collection of information as follows.

Number of states | Number of responses per state | Average burden hours per state | Total hours
56 | 1 | 367 | 20,522

Dated: October 30, 2019.
Mary Lazare,
Principal Deputy Administrator.

[FR Doc. 2019-24523 Filed 11-8-19; 8:45 am]

BILLING CODE 4154-01-P